DEPARTMENT OF TRANSPORTATION

Federal Aviation Administration

[Docket No. FAA-2006-25709, Notice No. 93-87; Docket No. FAA-2008-0517, Notice No. 08-05]

Congestion Management Rules for John F. Kennedy International Airport, Newark Liberty International Airport, and LaGuardia Airport

AGENCY: Federal Aviation Administration.

ACTION: Notice of Slot Auction Bidder Seminar.

SUMMARY: This notice announces a Bidder Seminar for the 2009 New York Slot Auctions, pursuant to the Federal Aviation Administration's congestion management rules for John F. Kennedy International Airport, Newark Liberty International Airport, and LaGuardia Airport (Final Congestion Rules). [Docket No. FAA-2008-0517, Notice No. 08-05 and Docket No. FAA-2006-25709, Notice No. 93-87].

DATES: The Slot Auction Bidder Seminar is scheduled for Friday, December 5, 2008, from 8:30 a.m. to 1 p.m., Eastern Time.

ADDRESSES: The Slot Auction Bidder Seminar will be held at the Marriott Crystal Gateway, 1700 Jefferson Davis Highway, Arlington, VA 22202 (in Crystal City, 5-10 minutes from Washington Reagan National Airport).

For Further Information, to RSVP or to Contact the Agency Regarding the Meeting: Jeffrey Wharff, Office of Aviation Policy & Plans, Federal Aviation Administration, 800 Independence Ave., SW., Washington, DC 20591; Phone 202-267-3274; Fax: (202) 267-3278; E-mail: Jeffrey.Wharff@faa.gov.

To Contact the Auction Manager Regarding the Seminar: Power Auctions LLC, 1000 Potomac Street, NW., Washington, DC 20007; Phone 202-342-0909; Fax: 202-379-9054; E-mail: slots@powerauctions.com. Additional information about the auction can be found at: https://www.slotauction.com/bidder-seminar.

SUPPLEMENTARY INFORMATION:

The purpose of the Slot Auction Bidder Seminar is to provide information to all interested parties concerning the congestion management rules for LaGuardia, Kennedy and Newark Airports, what is being auctioned, how an applicant can participate in the auctions, and the associated schedule of events. It will also give attendees the opportunity to ask questions. Key individuals from the Federal Aviation Administration (FAA) and from Power Auctions LLC and Market Design Inc. (PA/MDI), the auction manager, will speak at the seminar.

The Bidder Seminar is open to carriers that currently have slots at the three airports, other carriers that are interested in bidding, the Port Authority of New York and New Jersey, and other government agencies. Each organization should limit its participation to no more than five individuals.

A limited number of hotel rooms at the Marriott Crystal Gateway at $189 per night (singles or doubles) have been reserved for the night of December 4 for Bidder Seminar participants. Individuals should call the hotel at (703) 920-3230 and indicate that they are part of the “FAA Bidder Seminar” group. The block of hotel rooms will be held only until November 28 (or until the rooms are all reserved) and participants are advised to book early to avoid disappointment.

RSVPs for the Bidder Seminar are requested by November 28, 2008. Space at the Bidder Seminar is limited so seats are only guaranteed to those persons who RSVP.

Persons with a disability requiring special accommodations, such as an interpreter for the hearing impaired, should contact the FAA contact noted above at least ten (10) calendar days prior to the meeting.

A preliminary agenda is provided below. Information is also available at https://www.slotauction.com/bidder-seminar.

Time | Item
8-8:30 a.m. | Registration
8:30-8:50 a.m. | Introduction
| —Opening comments.
| —Background to the FAA Slot Auctions and rationale.
8:50-9:15 a.m. | The Slots
| —Description of what is being offered in the Auctions (exact slot times will not be identified at this time).
| —Key parameters of the slots.
9:15-10:40 a.m. | The Auction and the Auction Manager
| —Background on PA/MDI and its role in the Auctions.
| —The auction methodology and rationale.
| —Determining the winners of slots.
| —Determining the prices paid for slots.
10:40-11 a.m. | Break
11-11:30 a.m. | The Auction Software System
| —How to bid in the Auction.
| —Overview of the Auction System.
| —System requirements to access the Auction System.
11:30 a.m.-12 noon | Process leading up to the Auctions and post-auction process
| —Key dates.
| —Submission of Expression of Interest.
| —Submission of bidder deposits.
| —Receipt of username and password.
| —Training: Mock auctions.
| —Live auction.
| —Post-auction process.
12 noon-12:45 p.m. | Q&A
12:45-1:00 p.m. | Closing comments, including:
| —Next steps.
| —Contact details for help-desk.

Robert Robeson,
Manager, Systems & Policy Analysis Division.

[FR Doc. E8-27593 Filed 11-19-08; 8:45 am]

BILLING CODE 4910-13-P